DEPARTMENT OF COMMERCE

National Oceanic and Atmospheric Administration

RIN 0648-XC723

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application submitted by the Northeast Fisheries Science Center contains all of the required information and warrants further consideration. The EFP would allow participants of an Electronic Monitoring (EM) Study to retain all catch brought on board, including sub-legal groundfish, prohibited species (with some exceptions), and fish that would otherwise be discarded. All catch would be sampled at the dock by a dockside monitor.

Regulations under the Magnuson-Stevens Fishery Conservation and Management Act require publication of this notification to provide interested parties the opportunity to comment on EFP applications.

DATES: Comments must be received on or before July 5, 2013.

ADDRESSES: You may submit written comments by any of the following methods:

• Email: nero.efp@noaa.gov. Include in the subject line “Comments on NEFSC Electronic Monitoring EFP.”

• Mail: John K. Bullard, Regional Administrator, NMFS, NE Regional Office, 55 Great Republic Drive, Gloucester, MA 01930. Mark the outside of the envelope “Comments on NEFSC Electronic Monitoring EFP.”

• Fax: (978) 281-9135.

FOR FURTHER INFORMATION CONTACT: Liz Sullivan, Fisheries Management Specialist, 978-282-8493, Liz.Sullivan@noaa.gov.

SUPPLEMENTARY INFORMATION: The NMFS Northeast Fisheries Science Center (NEFSC) submitted a complete application for an EFP on June 4, 2013, to enable data collection activities that the regulations on commercial fishing would otherwise restrict. The EFP would exempt three federally permitted commercial fishing vessels from fishing regulations while participating in the EM study and operating under projects managed by the NEFSC. The EFP would exempt participating vessels from the following fish possession regulations: Minimum fish size restrictions; fish possession limits; prohibited fish species (unless otherwise noted), not including species protected under the Endangered Species Act (ESA); and gear-specific fish possession restrictions.

The Fishery Sampling Branch (FSB) of the NEFSC is conducting a multi-year study in conjunction with Archipelago Marine Research, Ltd., to investigate the use of EM technology as a monitoring tool in the Northeast multispecies fishery. The technology would be tested on three volunteer vessels in the trawl, longline, and gillnet fisheries, representing a range of vessel sizes, to effectively assess the applicability of the technology in sector-based management. EM technology uses a combination of passive electronic systems, such as video cameras, motion sensors, locator devices, and computers to detect fishing events and capture catch handling practices. In this mock full-retention program, the catch would be retained and EM technology would be used to monitor and document discard compliance. Any incidentally caught marine mammal; seabird; sea turtle; ESA-listed fish; large pelagic fish; American lobster; thorny, barndoor, or smooth skate; wolffish; or Atlantic halibut would be discarded at sea per normal fishing requirements at designated control points on the vessels, in full view of a monitoring camera. Vessel captains would have the discretion to discard at sea large portions of select catch (dogfish and skates) due to safety concerns; these discard events would be documented.

These exemptions would only apply to declared multispecies trips that are conducted in coordination with FSB and would include a dockside monitor intercept. The three vessels involved in the EM Study participate in sectors. All catch of stocks allocated to sectors by vessels would be deducted from the sector's Annual Catch Entitlement (ACE) for each Northeast multispecies stock. Once a sector's ACE for a stock has been reached, vessels would no longer be allowed to fish in that stock area, unless they acquired additional ACE for the limiting stock.

Dockside monitoring is a necessary component to this monitoring approach to verify catch and Vessel Trip Reporting (VTR) data. Dockside sampling would include collecting weights for fish that would be discarded during a normal fishing trip. Marketable fish would be accounted for by the dealer and VTR data. Non-marketable catch, including sub-legal sized groundfish, prohibited species, fish for which the vessel does not have a permit to sell, and fish below market quality would be identified, weighed, and sampled by FSB staff. FSB staff would retain any non-marketable catch, which could be used for training for observers, donation to food shelters, and donation to local fishermen for bait.

If approved, the applicant may request minor modifications and extensions to the EFP throughout the year. EFP modifications and extensions may be granted without further notice if they are deemed essential to facilitate completion of the proposed research and have minimal impact that do not change the scope or impact of the initially approved EFP request. Any fishing activity conducted outside the scope of the exempted fishing activity would be prohibited.

Authority: 16 U.S.C. 1801 et seq.

Dated: June 17, 2013.
Kelly Denit,
Acting Deputy Director, Office of Sustainable Fisheries, National Marine Fisheries Service.

[FR Doc. 2013-14756 Filed 6-19-13; 8:45 am]

BILLING CODE 3510-22-P